DEPARTMENT OF HEALTH AND HUMAN SERVICES

Centers for Disease Control and Prevention

National Center for Health Statistics (NCHS) Board of Scientific Counselors (BSC)

In accordance with section 10(a)(2) of the Federal Advisory Committee Act (Pub. L. 92-463), the Centers for Disease Control and Prevention (CDC), NCHS announces the following committee meeting.

Name: Board of Scientific Counselors, National Center for Health Statistics.

Times and Dates: 2 p.m.-5:40 p.m., October 9, 2003. 8:30 a.m.-5:30 p.m., October 10, 2003.

Place: National Center for Health Statistics, Conference Rooms 1403A and 1405B, 3311 Toledo Road, Hyattsville, Maryland 20782.

Status: Open to the public, limited only by the space available. The meeting room accommodates approximately 75 people.

Purpose: The committee is charged with providing advice and recommendations to the Secretary, HHS; the Director, CDC; and the Director, NCHS, regarding the scientific and technical program goals and objectives, strategies, and priorities of NCHS.

Matters to be Discussed: The meeting on October 9 will be devoted to orientation of new members. The orientation provides background information on procedures for new committee members. Although members of the public may attend, the orientation is not part of the public meeting.

The agenda for the meeting on October 10 will include welcome remarks by the Director, NCHS; introductions of members and key NCHS staff; scientific presentations and discussions; and an open session for comments from the public.

Requests to make an oral presentation should be submitted in writing to the contact person listed below by close of business, October 3, 2003. All requests to make oral comments should contain the name, address, telephone number, and organizational affiliation of the presenter.

Written comments should not exceed five single-spaced typed pages in length and should be received by the contact person listed below by close of business, October 3, 2003.

Agenda items are subject to change as priorities dictate.

FOR FURTHER INFORMATION CONTACT: Linda Blankenbaker, Executive Secretary, National Center for Health Statistics, Office of the Director, 3311 Toledo Road, Room 7204, Hyattsville, Maryland 20782, telephone (301) 458-4500, fax (301) 458-4020.

The Director, Management Analysis and Services Office, has been delegated the authority to sign Federal Register notices pertaining to announcements of meetings and other committee management activities for both CDC and the Agency for Toxic Substances and Disease Registry.

Dated: August 29, 2003.
Alvin Hall,
Director, Management Analysis and Services Office, Centers for Disease Control and Prevention.

[FR Doc. 03-22885 Filed 9-8-03; 8:45 am]

BILLING CODE 4163-18-P